Title 3—

The President

Memorandum of January 25, 2013

Rulemaking Concerning the Standards for Designating Positions in the Competitive Service as National Security Sensitive and Related Matters

Memorandum for the Director of National Intelligence [and] the Director of the Office of Personnel Management

The Director of National Intelligence and the Director of the Office of Personnel Management shall jointly propose the amended regulations contained in the Office of Personnel Management's notice of proposed rulemaking in 75 Fed. Reg. 77783 (December 14, 2010), with such modifications as are necessary to permit their joint publication, without prejudice to the authorities of the Director of National Intelligence and the Director of the Office of Personnel Management under any Executive Order, and to the extent permitted by law.

This memorandum is not intended to, and does not, create any right or benefit, substantive or procedural, enforceable at law or in equity by any party against the United States, its departments, agencies, or entities, its officers, employees, or agents, or any other person.

The Director of the Office of Personnel Management is hereby authorized and directed to publish this memorandum in the Federal Register.

THE WHITE HOUSE,

Washington, January 25, 2013.

[FR Doc. 2013-02306

Filed 1-30-13; 11:15 am]

Billing code 6325-01